SECURITIES AND EXCHANGE COMMISSION

[File No. 500-1]

Order of Suspension of Trading; In the Matter of China Pharmaceuticals, Inc., China Printing & Packaging, Inc., Silvan Industries, Inc., and Ziyang Ceramics Corp.

February 27, 2015.

It appears to the Securities and Exchange Commission that there is a lack of current and accurate information concerning the securities of China Pharmaceuticals, Inc. because it has not filed any periodic reports since the period ended June 30, 2012.

It appears to the Securities and Exchange Commission that there is a lack of current and accurate information concerning the securities of China Printing & Packaging, Inc. because it has not filed any periodic reports since the period ended June 30, 2012.

It appears to the Securities and Exchange Commission that there is a lack of current and accurate information concerning the securities of Silvan Industries, Inc. because it has not filed any periodic reports since the period ended December 31, 2011.

It appears to the Securities and Exchange Commission that there is a lack of current and accurate information concerning the securities of Ziyang Ceramics Corp. because it has not filed any periodic reports since the period ended June 30, 2012.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 27, 2015, through 11:59 p.m. EDT on March 12, 2015.

By the Commission.
Jill M. Peterson,
Assistant Secretary.

[FR Doc. 2015-04449 Filed 2-27-15; 4:15 pm]

BILLING CODE 8011-01-P